OFFICE OF MANAGEMENT AND BUDGET

Public Availability of Year 2002 Agency Inventories Under the Federal Activities Inventory Reform Act of 1998 (Public Law 105-270) (“FAIR Act”)

AGENCY: Office of Management and Budget, Executive Office of the President.

ACTION: Notice of public availability of agency inventories of activities that are not inherently governmental and of activities that are inherently governmental.

SUMMARY: Agency inventories of activities that are not inherently governmental are now available to the public from the agencies listed below, in accordance with the “Federal Activities Inventory Reform Act of 1998” (Public Law 105-270) (“FAIR Act”). Agency inventories of activities that are inherently governmental are also now available to the public from the agencies listed below. This is the first release of the 2002 FAIR Act inventories. The Office of Federal Procurement Policy has made available a summary FAIR Act User's Guide through its Internet site: http://www.whitehouse.gov/OMB/procurement/index.html. The User's Guide should help interested parties review 2002 FAIR Act inventories, and gain access to agency inventories through agency Web site addresses.

The FAIR Act requires OMB to publish an announcement of public availability of agency inventories of activities that are not inherently governmental upon completion of OMB's review and consultation process concerning the content of the agencies' inventory submissions. After review and consultation with OMB, the agency inventories are made available to the public. Interested parties who disagree with the agency's initial judgment can challenge the inclusion or the omission of an activity on the list and, if not satisfied with this review, may also demand a higher agency review/appeal.

Mitchell E. Daniels, Jr.,
Director.

Agency | Contact
Architectural and Transportation Barriers Compliance Board | Lawrence W. Roffee, (202) 272-0001 Web site: http://www.access-board.gov
National Council on Disabilities | Ethel D. Briggs, (202) 272-2004 Web site: http://www.ncd.gov
Committee for Purchase for People Who are Blind or Severely Disabled | Leon A. Wilson, Jr., (703) 603-7740 Web site: http://www.jwod.gov
National Commission on Libraries and Information Science | Judith C. Russell, (202) 606-9200 Web site: http://www.nclis.gov/index.cfm
Institute of Museum and Library Services | Teresa M. LaHaie, (202) 606-8637 Web site: http://www.imls.gov
National Endowment for the Humanities | Barry Maynes, (202) 606-8233 Web site: http://www.neh.fed.us/
Harry S. Truman Scholarship Foundation | Louis H. Blair, (202) 395-4831 Web site: http://www.truman.gov
James Madison Fellowship Foundation | Steve Weiss, (202) 653-6109 Web site: http://www.jamesmadison.com
Barry M. Goldwater Scholarship and Excellence in Education | Gerald J. Smith, (703) 756-6012 Web site: http://www.act.org/goldwater/
Christopher Columbus Fellowship Foundation | Judith M. Shellenberger, (315) 258-0090 Web site: http://www.whitehouse.gov/omb
Office of Navaho and Hopi Relocation | Nancy Thomas, (928) 779-2721 Web site: http://www.whitehouse.gov/omb
National Aeronautics and Space Administration | Tom Luedtke, (202) 358-2090 Web site: http://competitivesourcing.nasa.gov
Health and Human Services | Michael Colvin, (202) 690-7887 Web site: http://www.hhs.gov/ogam/oam/fair/
Consumer Product Safety Commission | Edward E. Quist, (301) 504-0029 x2240 Web site: http://www.cpsc.gov
Housing and Urban Development | James M. Martin, (202) 708-0638 Web site: http://www.hud.gov/
Commission on Fine Arts | Charles Atherton, (202) 504-2200 Web site: http://www.cfa.gov
Holocaust Museum | James Gaglione, (202) 314-0336 Web site: http://www.ushmm.org/financial
Kennedy Center | Lynne H. Pratt, (202) 416-8000 Web site: http://www.kennedy-center.org
Woodrow Wilson Center | Ronnie Dempsey, (202) 691-4216 Web site: http://wwics.si.edu
Office of Special Counsel | Jane McFarland, (202) 653-5163 Web site: http://www.osc.gov
U.S. Merit Systems Protection Board | Douglas Wade, (202) 653-6772, ext 1118 Web site: http://www.mspb.gov
Treasury | Kevin Whitfield, (202) 622-0248 Web site: http://www.treas.gov/fair

[FR Doc. 02-26374 Filed 10-16-02; 8:45 am]

BILLING CODE 3110-01-P